OFFICE OF PERSONNEL MANAGEMENT

Privacy Act of 1974; Computer Matching Program, Office of Personnel Management/Social Security Administration

AGENCY: Office of Personnel Management (OPM).

ACTION: Publication of notice of computer matching program to comply with Public Law 100-503, the Computer Matching and Privacy Protection Act of 1988.

SUMMARY: OPM is publishing notice of its computer matching program with the Social Security Administration (SSA) to meet the reporting and publication requirements of Public Law 100-503. The purpose of the computer match is to establish the conditions under which SSA agrees to the disclosure of tax return information to OPM.

DATES: The matching program will begin in October 2000, or 40 days after agreements by the parties participating in the match have been submitted to Congress and the Office of Management and Budget, or 30 days after notice of the match is published in the Federal Register, whichever is later. The data exchange will begin at a date mutually acceptable between OPM and SSA, unless comments are received which will result in a contrary determination. Subsequent matches will take place annually on a recurring basis until one of the parties advises the other, in writing, of its intention to reevaluate, modify and/or terminate the agreement.

ADDRESSES: Comments may be sent to William J. Washington, Acting Assistant Director for Systems, Finance, and Administration, 1900 E. Street, NW., Room 4312, Washington, DC 20415.

FOR FURTHER INFORMATION CONTACT: Marc Flaster, (202) 606-2115.

SUPPLEMENTARY INFORMATION: OPM and SSA intend to conduct a computer matching program, as described below. The purpose of this agreement is to establish the conditions under which SSA agrees to the disclosure of tax return information to OPM. The SSA records will be used in a matching program in which OPM will match SSA's tax return records with OPM's records on disability retirees under age 60, disabled adult child survivors, certain retirees in receipt of a supplemental benefit under the Federal Employees Retirement System, and certain annuitants receiving a discontinued service retirement benefit under the Civil Service Retirement System. By law, these annuitants and survivors are limited in the amount they can earn and still retain benefits paid to them. In the case of the discontinued service annuitants, retirement benefits will cease upon re-employment in federal service. OPM will use the SSA data to determine continued eligibility for benefits being paid.

Office of Personnel Management.
Janice R. Lachance,
Director.

Report of Computer Matching Program Between the Office of Personnel Management and the Social Security Administration

A. Participating Agencies

OPM and SSA.

B. Purpose of the Matching Program

Chapters 83 and 84 of title 5, United States Code (U.S.C.) require OPM to verify earnings data supplied by civil service annuitants. Section 6103(11) of the Internal Revenue Code requires SSA to disclose tax return information to OPM to administer programs under chapters 83 and 84 of title 5, United States Code. The purpose of this agreement is to establish the conditions under which SSA agrees to the disclosure of tax return information to OPM.

C. Authority for Conducting the Matching Program

Public Law 97-253, Chapters 83 and 84, title 5, United States Code and 26 U.S.C. 6103(11).

D. Categories of Records and Individuals Covered by the Match

The SSA records involved in the match are earnings, self-employment and other data which constitute tax return information pursuant to 26 U.S.C. 6103. The Earnings Recording and Self-Employment Income System, SSA/OSR, 60-0059 (last published in the Federal Register at 59 FR 62407, December 5, 1994), maintains records of individuals' wages or self-employment income from employment under Social Security. The OPM records consist of annuity data from its system of records entitled OPM/Central 1—Civil Service Retirement and Insurance Records (last published in the Federal Register at 64 FR 54930, October 8, 1999), as amended May 3, 2000 (65 FR 25775).

E. Description of Matching Program

OPM provides an annual electronic finder file containing identifying information for those records that SSA will verify. SSA will then provide an electronic reply file containing information in response to OPM's finder file.

F. Privacy Safeguards and Security

The personal privacy of the individuals whose names are included in the data exchange is protected by strict adherence to the provisions of the Privacy Act and OMB's “Guidance Interpreting the Provisions of Public Law 100-503, the Computer Matching and Privacy Protection Act of 1988”. Access to the records used in the data exchange is restricted to only those authorized employees and officials who need it to perform their official duties in connection with the uses of the information authorized in this agreement. Records matched or created will be stored in an area that is physically safe. Records used in the exchange and any records created by this exchange will be processed under the immediate supervision and control of authorized personnel in a manner which will protect the confidentiality of the records, and in such a way that unauthorized persons cannot retrieve any such records by means of computer, remote terminal or other means. The records matched and any records created by this agreement will be transported under appropriate safeguards consistent with the manner in which they are stored and processed. All personnel who will have access to the records matched and to any records created by the match will be advised of the confidential nature of the information, the safeguards required to protect the information and the civil and criminal sanctions for noncompliance contained in applicable federal laws.

G. Inclusive Dates of the Matching Program

This computer matching program is subject to review by the Congress and the Office of Management and Budget (OMB). OPM's report to these parties must be received at least 40 days prior to the initiation of any matching activity. If no objections are raised by either Congress or OMB, and the mandatory 30 day public notice period for comment for this Federal Register notice expires, with no significant receipt of adverse public comments resulting in a contrary determination, then this computer matching program becomes effective. By agreement between OPM and SSA, the matching program will be in effect and continue for 18 months with an option to renew for 12 additional months under the terms set forth in 5 U.S.C. 552a(o)(2)(D).

[FR Doc. 00-27328 Filed 10-24-00; 8:45 am]

BILLING CODE 6325-01-P